Title 3—

The President

Proclamation 8352 of March 13, 2009

National Poison Prevention Week, 2009

By the President of the United States of America

A Proclamation

Since 1962, National Poison Prevention Week has helped raise awareness about the dangers of potentially poisonous substances and has provided the opportunity to educate fellow Americans about preventing and responding to poisonings. This education effort is critical to the well-being of children and adults alike, as both remain susceptible to poison exposure.

According to the American Association of Poison Control Centers (AAPCC), more than two million potential poison exposures are reported to the Nation’s 61 poison control centers every year. More than half of those exposures involve children aged five and under. The AAPCC also reports that more than one thousand deaths due to poisoning take place in the United States every year.

Poisoning most frequently involves medicines and typical household chemicals, including cleaning supplies and personal care products. When improperly stored, these substances can present threats to the health and well-being of people subject to exposure. Taking simple steps can protect family and friends from harm. For example, keeping poisonous materials in their original containers, placing these materials out of children’s reach, following handling instructions and recommended dosages, and installing carbon monoxide detectors can all help save lives. More information can be found at www.aapcc.org. In the event of a potential poisoning, experts at local poison control centers can be reached at 1-800-222-1222. As children and adults suffer from poison exposures, all Americans should take seriously this grave health risk.

To encourage Americans to learn more about the dangers of accidental poisonings and to take appropriate preventive measures, the Congress, by joint resolution approved September 26, 1961, as amended (75 Stat. 681), has authorized and requested the President to issue a proclamation designating the third week of March each year as “National Poison Prevention Week.” I encourage all Americans to familiarize themselves with this issue and take steps to protect their families.

NOW, THEREFORE, I, BARACK OBAMA, President of the United States of America, do hereby proclaim March 15 through March 21, 2009, as National Poison Prevention Week.

IN WITNESS WHEREOF, I have hereunto set my hand this thirteenth day of March, in the year of our Lord two thousand nine, and of the Independence of the United States of America the two hundred and thirty-third.

[FR Doc. E9-6092

Filed 3-17-09; 11:15 am]

Billing code 3195-W9-P